CONSUMER PRODUCT SAFETY COMMISSION

16 CFR Part 1633

Final Rule: Standard for the Flammability (Open Flame) of Mattress Sets; Correction

AGENCY: Consumer Product Safety Commission.

ACTION: Correcting amendment.

SUMMARY: The Consumer Product Safety Commission (“Commission”) is making corrections to the flammability standard for mattress sets that was published in the Federal Register of March 15, 2006, (71 FR 13472). The corrections rectify typographical errors, clarify technical aspects of running the flammability test required by the standard, and clarify that the certification statement on the mattress set label may appear in another language in addition to English.

DATES: The corrections become effective on February 6, 2008.

FOR FURTHER INFORMATION CONTACT: Heather Sonabend, Office of Compliance, Consumer Product Safety Commission, 4330 East West Highway, Bethesda, MD 20814; telephone (301) 504-7615; e-mail hsonabend@cpsc.gov.

SUPPLEMENTARY INFORMATION: On March 15, 2006, the Commission issued a final rule specifying a flammability standard to reduce deaths and injuries related to mattress fires. The standard contains requirements for a test procedure, recordkeeping and labeling. Other than the correction that allows translation of the certification statement, the corrections occur in section 1633.7, the provisions describing the technical details of running the flammability test. The changes are described below.

In § 1633.7(a)(4), the term “bed frame” is changed to “test frame” to clarify that this refers to the frame used in the test, not a regular bed frame. This change is made in other paragraphs as well. Language also is added to this section to clarify that the angle iron should be positioned to angle down rather than up.

In § 1633.7(a)(6), a new paragraph (v) is created to clarify that the second half of existing paragraph (iv) relates to the burner inlet line. The remaining subparagraphs are redesignated. A technical error in footnote 1 is corrected to provide the correct measurements for the plastic tubing attaching the metal arms to the gas control. In the paragraph on the flow control system, there was a technical error in the propane pressure value. 70 kPa should be 140 kPa, and 140kPa (20 psig) should be 140 ± 5 kPa (20 ± 1 psig). These measurements and an erroneous reference to a figure 8 are corrected.

In § 1633.7(b)(1)(ii) the range used for the propane tank is corrected from 20 ± .5 psig to 20 ± 1 psig.

In § 1633.7(d) concerning test preparation a typographical error is corrected to state that the horizontal air flow velocity adjacent to the test specimen shall be no more than 0.5 m/s. A few sentences in subparagraph (2) are changed to clarify placement of the mattress and foundation specimen on the test frame.

In § 1633.7(e) a reference is corrected to correspond to the appropriate redesignated paragraph in § 1633.7(a)(6).

In § 1633.7(f) the sentence concerning the general layout for the room configuration is moved to the beginning of the paragraph to make the paragraph easier to follow.

In § 1633.7(h) an erroneous reference to figure 8 in subparagraph (1)(iv) is removed. Language is also added in that subparagraph to permit use of a platen that is another dimension than specified if it meets the requirements for a specific sample. In subparagraph (2)(i) rather than specifying an 8 inch length of duct tape to hold the platen in position, the language is changed to clarify that the duct tape be of sufficient length to assure that the platen stays firmly against the mattress surfaces. In subparagraph (2)(iv) language is added to clarify the use of flat stock to assure that the burner is parallel to the mattress surface. In subparagraph (2)(viii) the change clarifies that the stand off foot referred to is that of the vertical burner. The placement of footnote 9 is moved to the last sentence of this subparagraph for clarification.

In § 1633.7(i) the abbreviation “ca.” is changed to the word “approximately” for clarification.

In § 1633.12 concerning labeling, paragraph (a)(6)(iii) is corrected to make that paragraph concerning mattresses intended to be sold both alone and with a foundation consistent with paragraph (a)(6)(ii) concerning mattresses intended to be sold with a foundation. Also in § 1633.12, paragraph (d) is corrected to make clear that translation of the certification statement into another language on the reverse side of the required label is permitted.

Because these are technical corrections rather than substantive changes, notice and comment is not necessary. See 5 U.S.C. 553(b)(3)(B). The corrections clarify technical aspects of the flammability testing and labeling provisions. They do not change the substantive obligations of mattress manufacturers and importers. For the same reason, there is no need to delay the effective date for these corrections. Id. 553(d)(3).

List of Subjects in 16 CFR Part 1633

Consumer protection, Flammable materials, Labeling, Mattresses and mattress pads, Records, Textiles, Warranties.

Accordingly, 16 CFR part 1633 is corrected by making the following correcting amendment:

PART 1633—STANDARD FOR THE FLAMMABILITY (OPEN FLAME) OF MATTRESS SETS

1. The authority for part 1633 continues to read as follows:

Authority: 15 U.S.C. 1193, 1194.

2. Section 1633.7 is amended as follows:

a. In paragraph (a)(4)(i) at the end of the first sentence add the words “with a flat surface and no edges extending up from the surface (i.e., the angle is configured down)”; in the second sentence remove the word “bed” and add the word “test”.

b. In paragraph (a)(4)(ii), second sentence, before the word “frame” add the word “test”.

c. In paragraph (a)(4)(iii) at the beginning and at the end of the first sentence add the word “test” before the word “frame”.

d. Redesignate paragraphs (a)(6)(v) through (a)(6)(ix) as paragraphs (a)(6)(vi) through (a)(6)(x) respectively; redesignate the fourth through the last sentence of paragraph (a)6)(iv) as paragraph (a)(6)(v); and add the heading “Burner inlet lines.” to newly designated paragraph (a)(6)(v).

e. In redesignated paragraph (a)(6)(vi) before the word “Frame” in the heading of the paragraph add the word “Burner”.

f. In redesignated paragraph (a)(6)(vii) in footnote 1 remove the phrase “3 inch ID by inch OD” and add in its place the phrase “0.25 inch ID by 0.4 inch OD”.

g. In redesignated paragraph (a)(6)(ix), second sentence, remove the number “70” and in its place add “140 ± 5”; after the number “20” add “± 1”; after the word “Figure” remove the number “8” and add the number “7” in its place.

h. In paragraph (b)(1)(ii), the last sentence, remove “20 ± .5” and in its place add “20 ± 1”.

i. In paragraph (d)(1), first sentence, before “0.5 m/s” add the words “no more than”.

j. In paragraph (d)(2), third sentence, remove the word “bed” and add in its place the word “test”; remove the fourth sentence and add in its place “Carefully center the foundation on top of the test frame to eliminate any gaps between the bottom periphery of the foundation and the inside edges of the test frame. If the mattress is to be tested alone, place it similarly. A mattress tested with its foundation should be centered longitudinally and laterally on the foundation.”.

k. In paragraph (e) remove the number “(ix)” and add in its place the number “(x)”.

l. In paragraph (f) move the third sentence so that it becomes the first sentence of the paragraph.

m. In paragraph (h)(1)(iv) add at the end of the first sentence the words “or another dimension that meets the requirements for a specific sample”; remove the last sentence of the paragraph.

n. In paragraph (h)(2)(i) remove the last sentence and add it in its place the words “Use a sufficient length of duct tape (platen to mattress top) to assure that the platen stays firmly against the surfaces of the mattress.”.

o. In paragraph (h)(2)(iv) remove the first sentence and add in its place the sentence “Make the horizontal burner parallel to the top of the platen (within 3 mm (⅛ inch) over the burner tube length); when properly parallel, it should not be possible to insert the 3 mm flat stock under either burner end by bending the copper tube section appropriately.”.

p. In paragraph (h)(2)(viii), first sentence, remove the word “its” and add in its place the words “the vertical burner”; move the reference to footnote 9 to the end of the second to last sentence in the paragraph.

q. In paragraph (i)(2)(i) in the second to last sentence remove the abbreviation “ca.” and add in its place the word “approximately”.

3. Section 1633.12 is amended as follows:

a. In paragraph (a)(6)(iii) before “; and” add the sentence “Such foundation(s) shall be clearly identified by a simple and distinct name and/or number on the mattress label”.

b. In paragraph (d) after the word “paragraphs” remove the phrase “(a)(7)(i) and (a)(7)(ii), and (a)(7)(iii)” and add in their place the phrase “(a)(6)(i) through (iii) and (a)(7)(i) through (iii)”.

Dated: January 30, 2008.
Todd Stevenson,
Secretary, Consumer Product Safety Commission.

[FR Doc. E8-2027 Filed 2-5-08; 8:45 am]

BILLING CODE 6355-01-P